DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of a person whose property and interests in property have been unblocked.

DATES: See SUPPLEMENTARY INFORMATION section for applicable date(s).

FOR FURTHER INFORMATION CONTACT: OFAC: Andrea Gacki, Director, tel.: 202-622-2490; Associate Director for Global Targeting, tel: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List (SDN List) and additional information concerning OFAC sanctions programs are available on OFAC's website (www.treasury.gov/ofac).

Notice of OFAC Action

On October 17, 2022, OFAC determined that the property and interests in property subject to U.S. jurisdiction of the following person are unblocked and the person is removed from the SDN List under the relevant sanctions authority listed below.

Individual

1. MICALLEF, Terence (a.k.a. MICALLEF, Terrence), 31 Fawwara Ct. Flat 3, Turu Rizzo St., Gzira, Malta; DOB 25 Jan 1985; POB Malta; nationality Malta; citizen Malta; Gender Male; Passport 1018185 (Malta) issued 01 Sep 2011; National ID No. 087385M (Malta) (individual) [LIBYA3].

Pursuant to CFR 31 § 501.807, OFAC has determined that circumstances no longer warrant the inclusion of the above-named person on the SDN List based on criteria contained in Executive Order 13726, “Blocking Property and Suspending Entry Into the United States of Persons Contributing to the Situation in Libya.”

Dated: October 17, 2022.
Andrea M. Gacki,
Director, Office of Foreign Assets Control, U.S. Department of the Treasury.

[FR Doc. 2022-22831 Filed 10-20-22; 8:45 am]

BILLING CODE 4810-AL-P